SECURITIES AND EXCHANGE COMMISSION

Submission for OMB Review; Comment Request

Upon Written Request, Copies Available From: Securities and Exchange Commission, Office of Filings and Information Services, Washington, DC 20549.

Extension:

Form N-54A; SEC File No. 270-182; OMB Control No. 3235-0237.

Notice is hereby given that, pursuant to the Paperwork Reduction Act of 1995 [44 U.S.C. 3501 et seq.] (the “PRA”), the Securities and Exchange Commission (“Commission”) has submitted to the Office of Management and Budget (“OMB”) a request for extension of the previously approved collection of information discussed below.

• Form N-54A under the Investment Company Act of 1940; Notification of Election to be Subject to Sections 55 through 65 of the Investment Company Act of 1940 Filed Pursuant to Section 54(a) of the Act.

Form N-54A [17 CFR 274.53] is the notification to the Commission of election to be regulated as a business development company. A company making such an election only has to file a Form N-54A once.

It is estimated that approximately 46 respondents per year file with the Commission a Form N-54A. Form N-54A requires approximately 0.5 burden hours per response resulting from creating and filing the information required by the Form. The total burden hours for Form N-54A would be 23.0 hours per year in the aggregate. The estimated annual burden of 23.0 hours represents an increase of 21.0 hours over the prior estimate of 2.0 hours. The increase in burden hours is attributable to an increase in the number of respondents from 4 to 46.

The estimate of average burden hours for Form N-54A is made solely for the purposes of the PRA and is not derived from a comprehensive or even representative survey or study of the cost of Commission rules and forms.

The collection of information under Form N-54A is mandatory. The information provided by the Form is not kept confidential. An agency may not conduct or sponsor, and a person is not required to respond to, a collection of information unless it displays a currently valid control number.

General comments regarding the above information should be directed to the following persons: (i) Desk Officer for the Securities and Exchange Commission, Office of Information and Regulatory Affairs, Office of Management and Budget, Room 10102, New Executive Office Building, Washington, DC 20503, or e-mail to: David_Rostker@omb.eop.gov; and (ii) R. Corey Booth, Director/Chief Information Officer, Office of Information Technology, Securities and Exchange Commission, 100 F Street, NE., Washington, DC 20549. Comments must be submitted to OMB within 30 days of this notice.

January 30, 2006.
Nancy M. Morris,
Secretary.

[FR Doc. E6-1781 Filed 2-8-06; 8:45 am]

BILLING CODE 8010-01-P